ENVIRONMENTAL PROTECTION AGENCY

[OAR-2003-0206; FRL-7602-1]

Agency Information Collection Activities: Proposed Collection; Comment Request; Emission Control System Performance Warranty Regulations and Voluntary Aftermarket Part Certification Program—OMB Control Number: 2060-0060

AGENCY: Environmental Protection Agency (EPA).

ACTION: Notice.

SUMMARY: In compliance with the Paperwork Reduction Act (44 U.S.C. 3501 et seq.), this document announces that EPA is planning to submit the following proposed/continuing Information Collection Request (ICR) to the Office of Management and Budget (OMB): Emission Control System Performance Warranty Regulations and Voluntary Aftermarket Part Certification Program, OMB Control Number 2060-0060, expiration date 02/29/04. Before submitting the ICR to OMB for review and approval, EPA is soliciting comments on specific aspects of the proposed information collection as described below.

DATES: Comments must be submitted on or before February 23, 2004.

ADDRESSES: Follow the detailed instructions in SUPPLEMENTARY INFORMATION.

FOR FURTHER INFORMATION CONTACT: Mrs. Chestine Payton, Certification and Compliance Division, Outreach and Planning Group, 6405J, telephone (202) 343-9240, Environmental Protection Agency, 1200 Pennsylvania Avenue, NW., Washington, DC 20460, telefax (202) 343-2804, and e-mail payton.chestine@epa.gov.

SUPPLEMENTARY INFORMATION: EPA has established a public docket for this ICR under Docket ID number OAR-2003-0206, which is available for public viewing at the Air Docket in the EPA Docket Center (EPA/DC), EPA West, Room B102, 1301 Constitution Avenue NW., Washington, DC. The Air Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. You may use EDOCKET to obtain a copy of the draft collection of information, submit or view public comments, access the index listing of the contents of the public docket, and to access those documents in the public docket that are available electronically. Once in the system, select “search,” then key in the docket ID number identified above.

Any comments related to this ICR should be submitted to EPA and OMB within 60 days of this notice, and according to the following detailed instructions: Submit your comments to EPA online using EDOCKET (our preferred method), by e-mail to air-and-r-docket@epa.gov, or by mail to: EPA Docket Center, Environmental Protection Agency, OAR, Mail Code 6102T, 1200 Pennsylvania Ave. NW., Washington, DC 20460.

EPA's policy is that public comments, whether submitted electronically or in paper, will be made available for public viewing in DOCKET as EPA receives them and without change, unless the comment contains copyrighted material, CBI, or other information whose public disclosure is restricted by statute. When EPA identifies a comment containing copyrighted material, EPA will provide a reference to that material in the version of the comment that is placed in DOCKET. The entire printed comment, including the copyrighted material, will be available in the public docket. Although identified as an item in the official docket, information claimed as CBI, or whose disclosure is otherwise restricted by statute, is not included in the official public docket, and will not be available for public viewing in DOCKET. For further information about the electronic docket, see EPA's Federal Register notice describing the electronic docket at 67 FR 38102 (May 31, 2002), or go to http://www.epa.gov/edocket.

Affected entities: Parties potentially affected by this action are automotive manufacturers and builders of automotive after market parts.

Title: Emission Control System Performance Warranty Regulations & Voluntary Aftermarket Part Certification Program, OMB# 2060-0060, Expiration date 02/29/04.

Abstract: The information required is the minimal necessary to ensure that the part to be certified actually performs as required. Without this information EPA would have no way to control and audit fraudulent or marginal submissions. Information is only collected when the part is tested to be certified, if no information is collected at the time of testing there will be no means of showing later that the part was properly designed. EPA would not be able to control the self-certification of parts and this could, therefore, result in certified parts that cause vehicles to fail emissions standards.

The information collected is part of the requirement of section 207(a) of the Clean Air Act, and as described in section 40 CFR part 85, subpart V. This is a voluntary certification program and there is no requirement that any manufacturer participate.

The total estimated involvement of the aftermarket part industry (replacement and specialty parts) is 1 part per year.

The EPA would like to solicit comments to:

(i) Evaluate whether the proposed collection of information is necessary for the proper performance of the functions of the agency, including whether the information will have practical utility;

(ii) Evaluate the accuracy of the agency's estimate of the burden of the proposed collection of information; including the validity of the methodology and assumptions used;

(iii) Enhance the quality, utility, and clarity of the information to be collected; and

(iv) Minimize the burden of the collection of information on those who are to respond, including through the use of appropriate automated collection techniques or other forms of information technology, e.g., permitting electronic submission of responses.

Burden Statement: EPA's burden estimated for this information collection is broken down into three parts: reporting, testing and record keeping burden. EPA estimates that the reporting burden will be 20 hours, testing 150 hours and annual record keeping 1 hour. Burden means the total time, effort, or financial resources expended by persons to generate, maintain, retain, disclosure or provide information to or for a federal agency. This includes the time needed to review instructions; develop, acquire, install, and utilize technology and systems for the purposes of collecting, validating, and verifying information, processing and maintaining information, and disclosing and providing information; adjusting the existing ways to comply with any previously applicable instructions and requirements; training personnel to be able to respond to a collection of information; searching data sources; completing and reviewing the collection of information; and transmitting or otherwise disclosing the information.

Respondents/Affected Entities: Parties potentially affected by this action are automotive manufacturers and builders of automotive after market parts.

Estimated Number of Respondents: 1.

Frequency of Response: On occasion.

Estimated Total Annual Hour Burden: 861 hours.

Estimated Total Annualized Cost Burden: $ 37,380.

Dated: December 15, 2003.
Robert Brenner,
Acting Assistant Administrator, Office of Air and Radiation.

[FR Doc. 03-31707 Filed 12-23-03; 8:45 am]

BILLING CODE 6560-50-P